SECURITIES AND EXCHANGE COMMISSION

(Release No. 34-45089; File No. SR-ISE-2001-30)

Self-Regulatory Organizations; Notice of Filing and Immediate Effectiveness of Proposed Rule Change by the International Securities Exchange LLC Relating to Fees for Providing “Bisync Controllers” to Members

November 21, 2001.

Pursuant to section 19 (b)(1) of the Securities Exchange Act of 1934 (“Act”),¹ and rule 19b-4 ² thereunder, notice is hereby given that on November 16, 2001, the International Securities Exchange LLC (“ISE” or “Exchange”) filed with the Securities and Exchange Commission (the “Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The Exchange proposes to amend its fee schedule to impose a monthly fee of $350 for each “bisync controller” the Exchange leases to a member.

The text of the proposed rule change appears below. New text is in italics.

ISE Schedule of Fees

* * * * *

| Amount | Billable unit | Frequency
Access Services
Gateway
• Cabinet Installation | $5,000.00 | Gateway | One Time.
• Cabinet Move/Add/Change | 2,000.00 | Gateway | One Time.
•; Cabinet Lease/Maint. | 1,400.00 | Gateway | Monthly.
• Additional Servers | 250.00 | Server | Monthly.
• Router Installation/­Removal | 500.00 | Router | One Time.
• Router Lease/Maint. | 200.00 | Router | Monthly.
• Bisync Controller | 350.00 | Controller | Monthly if leased; member can purchase own equipment.

* * * * *

II. Self-Regulatory Organization's Statement of the Purpose of, and Statutory Basis for, the Proposed Rule Change

In its filing with the Commission, the Exchange included statements concerning the purpose of and basis for the proposed rule change and discussed any comments it received on the proposed rule change. The text of these statements may be examined at the places specified in Item IV below. The Exchange has prepared summaries, set forth in sections A, B, and C below, of the most significant aspects of such statements.

A. Self-Regulatory Organization's Statement of the Purpose of, and Statutory Basis for, the Proposed Rule Change

(1) Purpose

The purpose of the proposed rule change is to institute a fee to recover the Exchange's cost of providing “bisync controllers” to members. The controller allows the ISE to communicate with older protocols that are still in use by certain Electronic Access Members. The rule makes clear that members can purchase their own equipment and thus avoid leasing the controllers from the ISE and incurring this fee.

(2) Statutory Basis

The Exchange believes that the proposed rule change is consistent with section 6 (b) of the Act,³ in general, and furthers the objectives of section 6 (b)(4), ⁴ in particular, in that it provides for the equitable allocation of reasonable dues, fees, and other charges among its members and other persons using its facilities.

³ 15 U.S.C. 78f (b).

⁴ 15 U.S.C. 78f (b)(4).

B. Self-Regulatory Organization's Statement on Burden on Competition

The Exchange does not believe that the proposed rule change will impose any burden on competition that is not necessary or appropriate in furtherance of the Act.

C. Self-Regulatory Organization's Statement on Comments on the Proposed Rule Change Received From Members, Participants, or Others

The Exchange has not solicited, and does not intend to solicit, comments on this proposed rule change. The Exchange has not received any unsolicited written comments from members or other interested parties.

III. Date of Effectiveness of the Proposed Rule Change and Timing for Commission Action

The foregoing rule change establishes or changes a due, fee, or charge imposed by the Exchange and, therefore, has become effective upon filing pursuant to section 19 (b)(3)(A)(ii) of the Act ⁵ and Rule 19b-4 (f)(2) thereunder.⁶ At any time within 60 days of the filing of such proposed rule change, the Commission may summarily abrogate such rule change if it appears to the Commission that such action is necessary or appropriate in the public interest, for the protection of investors, or otherwise in furtherance of the purposes of the Act.

⁵ 15 U.S.C. 78 (s)(b)(3)(A)(ii).

⁶ 17 CFR 240.19b-4 (f)(2).

IV. Solicitation of Comments

Interested persons are invited to submit written data, views and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying in the Commission's Public Reference Section. Copies of such filing will also be available for inspection and copying at the principal office of the Exchange. All submissions should refer to File No. SR-ISE-2001-30 and should be submitted by December 21, 2001.

For the Commission, by the Division of Market Regulation, pursuant to delegated authority.⁷
⁷ 17 CFR 200.30-3 (a)(12).
Margaret H. McFarland,
Deputy Secretary.

[FR Doc. 01-29720 Filed 11-29-01; 8:45 am]

BILLING CODE 8010-01-M